FEDERAL DEPOSIT INSURANCE CORPORATION

Notice to All Interested Parties of the Termination of the Receivership of 10293, Haven Trust Bank Florida, Ponte Vedra Beach, Florida

Notice is hereby given that the Federal Deposit Insurance Corporation (“FDIC”) as Receiver for Haven Trust Bank Florida, Ponte Vedra Beach, Florida (“the Receiver”) intends to terminate its receivership for said institution. The FDIC was appointed receiver of Haven Trust Bank Florida on September 24, 2010. The liquidation of the receivership assets has been completed. To the extent permitted by available funds and in accordance with law, the Receiver will be making a final dividend payment to proven creditors.

Based upon the foregoing, the Receiver has determined that the continued existence of the receivership will serve no useful purpose. Consequently, notice is given that the receivership shall be terminated, to be effective no sooner than thirty days after the date of this Notice. If any person wishes to comment concerning the termination of the receivership, such comment must be made in writing and sent within thirty days of the date of this Notice to: Federal Deposit Insurance Corporation, Division of Resolutions and Receiverships, Attention: Receivership Oversight Department 32.1, 1601 Bryan Street, Dallas, TX 75201.

No comments concerning the termination of this receivership will be considered which are not sent within this time frame.

Dated: February 5, 2016.
Federal Deposit Insurance Corporation.
Robert E. Feldman,
Executive Secretary.

[FR Doc. 2016-02661 Filed 2-9-16; 8:45 am]

BILLING CODE 6714-01-P